SMALL BUSINESS ADMINISTRATION

Public Federal Regulatory Enforcement Fairness Hearing; Region X Regulatory Fairness Board

The Small Business Administration Region X Regulatory Fairness Board and the SBA Office of the National Ombudsman will hold a Public Hearing on Tuesday, July 27, 2004 at 8:30 a.m. at SBA Seattle District Office, 1200 6th Avenue, Suite 1700, Seattle, WA 98101, to receive comments and testimony from small business owners, small government entities, and small non-profit organizations concerning regulatory enforcement and compliance actions taken by federal agencies. The hearing will be simultaneously teleconferenced to the SBA Spokane Branch Office, 801 West Riverside Avenue, Suite 240, Spokane, WA 99201. In Seattle the hearing will be translated into Mandarin Chinese.

Anyone wishing to attend or to make a presentation must contact Roger Hopkins in writing or by fax, in order to be put on the agenda. Roger Hopkins, Economic Development Specialist, Public Information Officer, SBA Seattle District Office, 1200 6th Avenue, Suite 1700, Seattle, WA 98101, phone (206) 553-7082, fax (206) 553-7066, e-mail: roger.hopkins@sba.gov.

For more information, see our Web site at http://www.sba.gov/ombudsman.

Dated: July 6, 2004.
Peter Sorum,
Senior Advisor, Office of the National Ombudsman.

[FR Doc. 04-15738 Filed 7-9-04; 8:45 am]

BILLING CODE 8025-01-P